NATIONAL AERONAUTICS AND SPACE ADMINISTRATION

[Notice (09-098)]

14 CFR Part 1245

RIN 2700-AD45

Patents and Other Intellectual Property Rights

AGENCY: National Aeronautics and Space Administration.

ACTION: Final rule.

SUMMARY: NASA is amending its regulations by removing a subpart concerning authority and delegations to take certain actions relating to patents and other intellectual property rights. The NASA General Counsel establishes Agency-wide legal policies and procedures in conjunction and coordination with the various Center Chief Counsels and determines best methods and practices for providing legal advice, assistance, and functional guidance inherent in rendering legal services.

DATES: Effective Date: November 18, 2009.

FOR FURTHER INFORMATION CONTACT: Robert F. Rotella, Office of the General Counsel, NASA Headquarters, telephone (202) 358-2066, fax (202) 358-4341.

SUPPLEMENTARY INFORMATION: NASA Policy Directive NPD 2000.1F, “Authority to Take Certain Actions for The General Counsel,” serves as the delegation from, and governs such delegated authority by, the General Counsel to the various designated Agency counsel to carry out such duties and responsibilities. NPD 2000.1 provides greater implementation details of the delegation as compared to 14 CFR part 1245, subpart 5. Accordingly, 14 CFR part 1245, subpart 5 is superfluous and can be eliminated.

List of Subjects in 14 CFR Part 1245

Authority delegations (Government agencies), inventions and patents.

Under the authority, 42 U.S.C. 2473, 14 CFR Part 1245 is amended as follows:

PART 1245—PATENTS AND OTHER INTELLECTUAL PROPERTY RIGHTS

1. The authority citation for Part 1245 continues to read as follows:

Authority: 42 U.S.C. 2457

Subpart 5—[Removed and Reserved]

2. Remove and reserve Subpart 5, consisting of §§ 1245.500 through 1245.504.

Charles F. Bolden, Jr.,
Administrator.

[FR Doc. E9-27687 Filed 11-17-09; 8:45 am]

BILLING CODE 7510-13-P